ENVIRONMENTAL PROTECTION AGENCY

[EPA-HQ-OPP-2024-0054; FRL-11671-01-OCSPP]

Agency Information Collection Activities; Proposed Renewal of an Existing ICR Collection and Request for Comment; Pesticide Registration Fees Program

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Pesticide Registration Fees Program,” identified by EPA ICR No. 2330.05 and OMB Control No. 2070-0179. This ICR represents a renewal of an existing ICR that is currently approved through January 31, 2025. Before submitting the ICR to OMB for review and approval under the PRA, EPA is soliciting comments on specific aspects of the information collection that is summarized in this document. The ICR and accompanying material are available in the docket for public review and comment.

DATES: Comments must be received on or before June 28, 2024.

ADDRESSES: Submit your comments, identified by docket identification (ID) number EPA-HQ-OPP-2024-0054, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Mission Support Division (7602M), Office of Program Support, Office of Chemical Safety and Pollution Prevention, Environmental Protection Agency, 1200 Pennsylvania Ave. NW, Washington, DC 20460-0001; telephone number: (703) 719-1649; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Pesticide Registration Fees Program.

EPA ICR No.: 2330.05.

OMB Control No.: 2070-0179.

ICR status: This ICR is currently approved through January 31, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR 9.

Abstract: This ICR covers the paperwork burden hours and costs associated with the information collection activities under the pesticide registration fee program. Pesticide registrants are required by statute to pay an annual registration maintenance fee for all products registered under sections 3 and 24(c) of the Federal Insecticide, Fungicide and Rodenticide Act (FIFRA). In addition, the Pesticide Registration Improvement Act (PRIA) amended FIFRA in 2004 to create a registration service fee system for applications for specific pesticide registration, amended registration, and associated tolerance actions as per FIFRA section 33. This ICR specifically covers the activities related to the collection of the annual registration maintenance fees, the registration service fees, and the burden associated with the submission of requests for fees to be waived.

Burden statement: The annual public reporting and recordkeeping burden for this collection of information is estimated to average 1.17 hours per response. Burden is defined in 5 CFR 1320.3(b).

The ICR, which is available in the docket along with other related materials, provides a detailed explanation of the collection activities and the burden estimate that is only briefly summarized here.

Respondents/affected entities: Entities potentially affected are those that are pesticide importers, which include the following North American Industrial Classification System (NAICS) codes ranging from Pesticide and other agricultural chemical manufacturing (NAICS 3250A1); Other Basic Inorganic Chemical Manufacturing (NAICS 32518); Other Basic Organic Chemical Manufacturing (NAICS 32519); and Regulation of Agricultural Marketing and Commodities (NAICS 9641).

Respondent's obligation to respond: Mandatory, per FIFRA sections 4(i)(5) and 33.

Forms: EPA Form 8570-30.

Frequency of response: Annually and on occasion.

Total estimated number of potential respondents: 2,252.

Total estimated average number of responses for each respondent: 1.

Total estimated annual burden hours: 8,732 hours.

Total estimated annual respondent costs: $ 821,741, which includes an estimated cost of $0 for capital investment or maintenance and operational costs.

III. Are there changes in the estimates from the last approval?

There is an increase of 511 hours in the total estimated respondent burden compared with that identified in the ICR currently approved by OMB, which is due to an increase of 369 in the estimated number of respondents. There is an increase of $134,440 in labor costs for the regulated community related to updated wage rates. These are adjustments.

In addition, OMB has asked us to replace the format EPA has historically used for ICR Supporting Statements with the 18-question format that is used by other federal agencies and departments. The 18-question format is based on the submission instructions to agencies that appear on the OMB submission form. Although this supporting statement has been modified to reflect the 18-question format, the change in format has not changed the information collection activities or related estimated burden and costs. EPA welcomes your feedback on whether this improves the presentation of the information collection activities and related burden and costs estimates.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 23, 2024.
Michal Freedhoff,
Assistant Administrator, Office of Chemical Safety and Pollution Prevention.

[FR Doc. 2024-09095 Filed 4-26-24; 8:45 am]

BILLING CODE 6560-50-P